FEDERAL COMMUNICATIONS COMMISSION

47 CFR Part 30

[GN Docket No. 14-177, IB Docket Nos. 15-256 and 97-95, RM-11664, WT Docket No. 10-112; FCC 16-89]

Use of Spectrum Bands Above 24 GHz for Mobile Radio Services; Correcting Amendments

AGENCY: Federal Communications Commission.

ACTION: Correcting amendments.

SUMMARY: The Federal Communications Commission (Commission) is correcting a final rule that published in the Federal Register on November 14, 2016. The document issued the final rules for the Use of Spectrum Bands Above 24 GHz for Mobile Radio Services, GN Docket No. 14-177, FCC 16-89. The Socorro and White Sands coordination zones contained in the Commission's Rules were not correctly published in the Federal Register. This document corrects the final regulation.

DATES: Effective May 1, 2019.

FOR FURTHER INFORMATION CONTACT: John Schauble of the Wireless Telecommunications Bureau, Broadband Division at (202) 418-0797 or John.Schauble@fcc.gov.

SUPPLEMENTARY INFORMATION: In FR Doc. 2016-25765, published at 81 FR 79894 on November 14, 2016, on page 79942, the Socorro and White Sands coordination zones contained in Tables 2 and 3 of § 30.205(a) were published in the Federal Register incorrectly.

List of Subjects in 47 CFR Part 30

Communications common carriers, Communications equipment, Reporting and recordkeeping requirements.

Accordingly, 47 CFR part 30 is corrected by making the following correcting amendments:

PART 30—UPPER MICROWAVE FLEXIBLE USE SERVICE

1. The authority citation for part 30 continues to read as follows:

Authority: 47 U.S.C. 151, 152, 153, 154, 301, 303, 304, 307, 309, 310, 316, 332, 1302.

2. Amend § 30.205(a) by revising Tables 2 and 3 to read as follows:

§ 30.205 Federal coordination requirements.

(a) * * *

Table 2 to Paragraph (a)—Socorro, New Mexico Coordination Zone
60 dBm/100 MHz EIRP: Latitude/longitude (decimal degrees) | 60 dBm/100 MHz EIRP: Latitude/longitude (decimal degrees) | 75 dBm/100 MHz EIRP: Latitude/longitude (decimal degrees)
34.83816/−107.66828 | 33.44401/−108.67876 | 33.10651/−108.19320
34.80070/−107.68759 | 33.57963/−107.79895 | 33.11780/−107.99980
34.56506/−107.70233 | 33.84552/−107.60207 | 33.13558/−107.85611
34.40826/−107.71489 | 33.85964/−107.51915 | 33.80383/−107.16520
34.31013/−107.88349 | 33.86479/−107.17223 | 33.94554/−107.15516
34.24067/−107.96059 | 33.94779/−107.15038 | 33.95665/−107.15480
34.10278/−108.23166 | 34.11122/−107.18132 | 34.08156/−107.18137
34.07442/−108.30646 | 34.15203/−107.39035 | 34.10646/−107.18938
34.01447/−108.31694 | 34.29643/−107.51071 | 35.24269/−107.67969
33.86740/−108.48706 | 34.83816/−107.66828 | 34.06647/−108.70438
33.81660/−108.51052 |  | 33.35946/−108.68902
33.67909/−108.58750 |  | 33.29430/−108.65004
33.50223/−108.65470 |  | 33.10651/−108.19320

Table 3 to Paragraph (a)—White Sands, New Mexico Coordination Zone
60 dBm/100 MHz EIRP: Latitude/longitude (decimal degrees) | 60 dBm/100 MHz EIRP: Latitude/longitude (decimal degrees) | 75 dBm/100 MHz EIRP: Latitude/longitude (decimal degrees) | 75 dBm/100 MHz EIRP: Latitude/longitude (decimal degrees)
33.98689/−107.15967 | 31.78455/−106.54058 | 31.7494/−106.49132 | 32.88382/−108.16588
33.91573/−107.46301 | 32.24710/−106.56114 | 32.24524/−106.56507 | 32.76255/−108.05679
33.73122/−107.73585 | 32.67731/−106.53681 | 32.67731/−106.53681 | 32.56863/−108.43999
33.37098/−107.84333 | 32.89856/−106.56882 | 32.89856/−106.56882 | 32.48991/−108.50032
33.25424/−107.86409 | 33.24323/−106.70094 | 33.04880/−106.62309 | 32.39142/−108.48959
33.19808/−107.89673 | 33.98689/−107.15967 | 33.21824/−106.68992 | 31.63664/−108.40480
33.02128/−107.87226 |  | 33.24347/−106.70165 | 31.63466/−108.20921
32.47747/−107.77963 |  | 34.00708/−107.08652 | 31.78374/−108.20798
32.31543/−108.16101 |  | 34.04967/−107.17524 | 31.78322/−106.52825
31.79429/−107.88616 |  | 33.83491/−107.85971 | 31.7494/−106.49132

* * * * *

Federal Communications Commission.
Marlene Dortch,
Secretary, Office of the Secretary.

[FR Doc. 2019-08759 Filed 4-30-19; 8:45 am]

BILLING CODE 6712-01-P